Proclamation 9402 of February 29, 2016

Women's History Month, 2016

By the President of the United States of America

A Proclamation

Throughout history, women have driven humanity forward on the path to a more equal and just society, contributing in innumerable ways to our character and progress as a people. In the face of discrimination and undue hardship, they have never given up on the promise of America: that with hard work and determination, nothing is out of reach. During Women's History Month, we remember the trailblazers of the past, including the women who are not recorded in our history books, and we honor their legacies by carrying forward the valuable lessons learned from the powerful examples they set.

For too long, women were formally excluded from full participation in our society and our democracy. Because of the courage of so many bold women who dared to transcend preconceived expectations and prove they were capable of doing all that a man could do and more, advances were made, discoveries were revealed, barriers were broken, and progress triumphed. Whether serving in elected positions across America, leading groundbreaking civil rights movements, venturing into unknown frontiers, or programming revolutionary technologies, generations of women that knew their gender was no obstacle to what they could accomplish have long stirred new ideas and opened new doors, having a profound and positive impact on our Nation. Through hardship and strife and in every realm of life, women have spurred change in communities around the world, steadfastly joining together to overcome adversity and lead the charge for a fairer, more inclusive, and more progressive society.

During Women's History Month, we honor the countless women who sacrificed and strived to ensure all people have an equal shot at pursuing the American dream. As President, the first bill I signed into law was the Lilly Ledbetter Fair Pay Act, making it easier for working American women to effectively challenge illegal, unequal pay disparities. Additionally, my Administration proposed collecting pay data from businesses to shine a light on pay discrimination, and I signed an Executive Order to ensure the Federal Government only works with and awards contracts to businesses that follow laws that uphold fair and equal labor practices. Thanks to the Affordable Care Act, insurance companies can no longer charge women more for health insurance simply because of their gender. And last year, we officially opened for women the last jobs left unavailable to them in our military, because one of the best ways to ensure our Armed Forces remains the strongest in the world is to draw on the talents and skills of all Americans.

Though we have made great progress toward achieving gender equality, work remains to be done. Women still earn, on average, less for every dollar made by men, which is why I continue to call on the Congress to pass the Paycheck Fairness Act—a sensible step to provide women with basic tools to fight pay discrimination. Meanwhile, my Administration has taken steps to support working families by fighting for paid leave for all Americans, providing women with more small business loans and opportunities, and addressing the challenges still faced by women and girls of color, who consistently face wider opportunity gaps and structural barriers—including greater discrepancies in pay. And although the majority of our Nation's college and graduate students are women, they are still underrepresented in science, technology, engineering, and mathematics, which is why we are encouraging more women and girls to pursue careers in these fields.

This May, the White House will host a summit on “The United State of Women,” to highlight the advances we have made in the United States and across the globe and to expand our efforts on helping women confront the challenges they face and reach for their highest aspirations. We must strive to build the future we want our children to inherit—one in which their dreams are not deferred or denied, but where they are uplifted and praised. We have come far, but there is still far to go in shattering the glass ceiling that holds women back. This month, as we reflect on the marks made by women throughout history, let us uphold the responsibility that falls on all of us—regardless of gender—and fight for equal opportunity for our daughters as well as our sons.

NOW, THEREFORE, I, BARACK OBAMA, President of the United States of America, by virtue of the authority vested in me by the Constitution and the laws of the United States, do hereby proclaim March 2016 as Women's History Month. I call upon all Americans to observe this month and to celebrate International Women's Day on March 8, 2016, with appropriate programs, ceremonies, and activities. I also invite all Americans to visit www.WomensHistoryMonth.gov to learn more about the generations of women who have left enduring imprints on our history.

IN WITNESS WHEREOF, I have hereunto set my hand this twenty-ninth day of February, in the year of our Lord two thousand sixteen, and of the Independence of the United States of America the two hundred and fortieth.

[FR Doc. 2016-04875

Filed 3-2-16; 8:45 am]

Billing code 3295-F6-P